Title 3—

The President

Memorandum of December 16, 2025

Denial of Presidential Permit for the Kickapoo Traditional Tribe of Texas

Memorandum for the Secretary of State

I have reviewed the Presidential Permit Application Kickapoo International Bridge dated December 30, 2024, submitted to you by the Kickapoo Traditional Tribe of Texas (the “Applicant”), to construct, maintain, and operate a commercial and personally owned vehicle crossing located on the United Sates border with Mexico in Eagle Pass, Texas, as well as additional information provided to you by the Applicant (collectively, the “Application”), in accordance with 33 U.S.C. 535d and associated procedures.

Pursuant to 33 U.S.C. 535d(c), you recommended that issuing the Presidential Permit is not in the foreign policy interest of the United States. Having fully considered the information presented by the Applicant and based on a review of all of the information available, I accept your recommendation. I have determined that the project described in the Application is not in the United States national interest. Therefore, by the authority vested in me as President by the constitution and the laws of the United States, including 33 U.S.C. 535d(d), I hereby deny the requested Presidential Permit submitted by the Applicant. You shall provide notice of my decision to the Applicant.

You are authorized and directed to publish this memorandum in the Federal Register.

THE WHITE HOUSE,

Washington, December 16, 2025

[FR Doc. 2026-00697

Filed 1-13-26; 11:15 am]

Billing code 4710-10-P